Proclamation 10894 of February 9, 2025

Gulf of America Day, 2025

By the President of the United States of America

A Proclamation

Today, I am very honored to recognize February 9, 2025, as the first ever Gulf of America Day.

On January 20, 2025, I signed Executive Order 14172 (“Restoring Names That Honor American Greatness”). Among other actions, that Executive Order required the Secretary of the Interior, acting pursuant to 43 U.S.C. 364 through 364f, to “take all appropriate actions to rename as the ‘Gulf of America' the U.S. Continental Shelf area bounded on the northeast, north, and northwest by the State of Texas, Louisiana, Mississippi, Alabama and Florida and extending to the seaward boundary with Mexico and Cuba in the area formerly named as the Gulf of Mexico.”

I took this action because, as stated in that order, “[t]he area formerly known as the Gulf of Mexico has long been an integral asset to our once burgeoning Nation and has remained an indelible part of America.”

Today, I am making my first visit to the Gulf of America since its renaming. As my Administration seeks to restore American pride in the history of American greatness, I think it is fitting and appropriate for our great Nation to come together and commemorate this momentous occasion and the renaming of the Gulf of America.

NOW, THEREFORE, I, DONALD J. TRUMP, President of the United States of America, by virtue of the authority vested in me by the Constitution and the laws of the United States, do hereby proclaim February 9, 2025, as Gulf of America Day. I call upon public officials and all the people of the United States to observe this day with appropriate programs, ceremonies, and activities.

IN WITNESS WHEREOF, I have hereunto set my hand this ninth day of February, in the year of our Lord two thousand twenty-five, and of the Independence of the United States of America the two hundred and forty-ninth.

[FR Doc. 2025-02637

Filed 2-11-25; 11:15 am]

Billing code 3395-F4-P